DEPARTMENT OF COMMERCE

International Trade Administration

[A-570-909]

Certain Steel Nails From the People's Republic of China: Final Results of the First Antidumping Duty Administrative Review

AGENCY: Import Administration, International Trade Administration, Department of Commerce.

SUMMARY: On September 15, 2010, the Department of Commerce (“Department”) published the Preliminary Results of the first administrative review of the antidumping duty order on certain steel nails (“steel nails”) from the People's Republic of China (“PRC”).¹ We gave interested parties an opportunity to comment on the Preliminary Results. Based upon our analysis of the comments and information received, we made changes to the margin calculations for the final results of this review. The final weighted-average margins are listed below in the “Final Results of the Review” section of this notice. The period of review (“POR”) is January 23, 2008, through July 31, 2009.

¹ See Certain Steel Nails From the People's Republic of China: Notice of Preliminary Results and Preliminary Rescission, in Part, of the Antidumping Duty Administrative Review, 75 FR 56070 (September 15, 2010) (“Preliminary Results”).

DATES: Effective Date: March 23, 2011.

FOR FURTHER INFORMATION CONTACT: Emeka Chukwudebe or Matthew Renkey, AD/CVD Operations, Office 9, Import Administration, International Trade Administration, Department of Commerce, 14th Street and Constitution Avenue, NW., Washington, DC 20230; telephone: (202) 482-0219 or (202) 482-2312, respectively.

Case History

On September 15, 2010, the Department published the Preliminary Results of this administrative review. On October 7, 2010, we sent a supplemental questionnaire to separate-rate respondent Yitian Nanjing Hardware Co., Ltd. (“Yitian Nanjing”). On October 12, 2010, one of the individually-reviewed respondents who had received a calculated rate at the Preliminary Results, Shandong Minmetal Co., Ltd. (“Shandong Minmetal”), informed the Department that it would not participate in verification and withdrew from the administrative review. On October 20, 2010, we confirmed with counsel for Yitian Nanjing that a response to the Department's supplemental questionnaire was not filed by the stipulated deadline. On October 21, 2010, following the decision in Dorbest,² the Department placed wage rate data on the record for comment.³ The Department conducted verification of: (1) Tianjin Jinchi Metal Products Co., Ltd. (“Tianjin Jinchi”) on November 12, 2010; (2) Stanley's ⁴ PRC offices and factory from November 15, 2010, through November 17, 2010; (3) a wire-drawing subcontractor for Stanley from November 18, 2010, through November 19, 2010; and (4) Stanley's U.S. office from December 14, 2010, through December 16, 2010. We invited interested parties to comment on the Preliminary Results. Between November 3, 2010, and January 25, 2011, we received case and rebuttal briefs from Petitioner,⁵ one individually-reviewed respondent, Stanley, and other interested parties ⁶ in this administrative review.

² See Dorbest Ltd. v. United States, 604 F.3d 1363 (Fed. Cir. 2010) (“Dorbest”).

³ See Memorandum to the file through James C. Doyle, Office 9 Director, and Alex Villanueva, Office 9 Program Manager, from Emeka Chukwudebe, Office 9 Case Analyst, dated October 21, 2010, First Administrative Review of the Antidumping Duty Order on Certain Steel Nails from the People's Republic of China (“PRC”): Industry-Specific Wage Rate Selection (“Wage Rate Memo”).

⁴ The Stanley Works (Langfang) Fastening Systems Co., Ltd. (“Stanley Langfang”), the Stanley Works/Stanley Fastening Systems LP (“Stanley Works”), and an unaffiliated wire drawing subcontractor are collectively referred to as “Stanley” in this administrative review.

⁵ Mid Continent Nail Corporation.

⁶ The following companies filed combined case briefs: Itochu Building Products Co., Inc.; Chiieh Yung Metal Ind. Corp. (“Chiieh Yung”); Certified Products International Inc. (“CPI”); Huanghua Jinhai Hardware Products Co., Ltd.; Tianjin Jinghai County Hongli Industry & Business Co., Ltd.; Tianjin Jinchi; Shandong Dinglong Import & Export Co., Ltd.; Tianjin Zhonglian Metals Ware Co., Ltd.; Beijing Daruixing Nail Products Co., Ltd.; Hengshui Mingyao Hardware & Mesh Products Huanghua Xionghua Hardware Products Co., Ltd; Wintime Import & Export Corporation Limited of Zhongshan; Shanghai Jade Shuttle Hardware Tools Co., Ltd.; Romp (Tianjin) Hardware Co., Ltd.; China Staple Enterprise (Tianjin) Co., Ltd.; Tianjin Jurun Metal Products Co., Ltd. (“Tianjin Jurun”); Wuhu Shijie Hardware Co., Ltd. (“Wuhu Shijie”); Yitian Nanjing; Shanghai Chengkai Hardware Products Co., Ltd.; Tianjin Port Free Trade Zone Xiangtong International Industry & Trade Corp.; Tianjin Longxing (Group) Huanyu IMP. & EXP. Co., Ltd.; Dagang Zhitong Metal Products Co., Ltd.; Tianjin Shenyuan Steel Producting Group Co., Ltd.; Hebei Super Star Pneumatic Nails Co., Ltd.; Shaoxing Chengye Metal Producting Group Co., Ltd.; Tianjin Chentai International Trading Co., Ltd.; Qidong Liang Chyuan Metal Industry Co., Ltd.; CYM (Nanjing) Ningquan Nail Manufacture Co., Ltd., a.k.a. CYM (Nanjing) Nail Manufacture Co., Ltd.; and Shanghai Yueda Nails Industry Co., Ltd. a.k.a. Shanghai Yueda Nails Co., Ltd. (collectively, “Itochu et al.”); Shanghai Tengyu Hardware Tools Co., Ltd. and Shanghai Curvet Hardware Products Co. Ltd. (collectively, “Tengyu and Curvet”); Nanjing Yuechang Hardware Co., Ltd. (“Nanjing Yuechang”); and Shandong Oriental Cherry Hardware Group Co., Ltd., Shandong Oriental Cherry Hardware Import and Export Co., Ltd., and Jining Huarong Hardware Products Co., Ltd. (collectively, “Oriental Cherry Group”).

Analysis of Comments Received

All issues raised in the case and rebuttal briefs by parties are addressed in the “Certain Steel Nails from the People's Republic of China: Issues and Decision Memorandum for the Final Results of the First Antidumping Duty Administrative Review,” dated concurrently with this notice (“I&D Memo”), which is hereby adopted by this notice. A list of the issues which parties raised, and to which we responded in the I&D Memo, is attached to this notice as an Appendix. The I&D Memo is a public document and is on file in the Central Records Unit (“CRU”), Main Commerce Building, Room 7046, and is accessible on the Department's Web site at http://www.trade.gov/ia. The paper copy and electronic version of the memorandum are identical in content.

Final Partial Rescission of Administrative Review

In the Preliminary Results, the Department announced its intent to rescind the review with respect to certain companies ⁷ that certified they made no shipments of subject merchandise during the POR.⁸ For the final results, we continue to find that these companies did not make shipments during the POR. Thus, in accordance with 19 CFR 351.213(d)(3), and consistent with our practice,⁹ we are rescinding this review with respect to these companies.

⁷ Those companies are: Besco Machinery Industry (Zhejiang) Co., Ltd.; CPI; CYM (Nanjing) Nail Manufacture Co., Ltd.; Dagang Zhitong Metal Products Co., Ltd.; Hebei Super Star Pneumatic Nails Co., Ltd.; Hong Kong Yu Xi Co., Ltd.; Senco-Xingya Metal Products (Taicang) Co., Ltd.; Shanghai Chengkai Hardware Product Co., Ltd.; Shanghai March Import & Export Company Ltd.; Shaoxing Chengye Metal Producting Co., Ltd.; Suzhou Yaotian Metal Products Co., Ltd.; Tianjin Chentai International Trading Co., Ltd.; Tianjin Jurun; Tianjin Longxing (Group) Huanyu Imp. & Exp. Co., Ltd.; Tianjin Port Free Trade Zone Xiangtong Intl. Industry & Trade Corp.; Tianjin Shenyuan Steel Producting Group Co., Ltd.; Wuhu Shijie; and Wuxi Chengye Metal Products Co., Ltd.

⁸ See Preliminary Results, 75 FR at 56071-56072; see also Memorandum to James C. Doyle, Office 9 Director, through Alex Villanueva, Office 9 Program Manager, from Matthew Renkey, Senior Case Analyst and Emeka Chukwudebe, Case Analyst, First Antidumping Duty Administrative Review of Certain Steel Nails From the Peoples' Republic of China (“PRC”): Partial Rescission of the First Antidumping Duty Administrative Review, dated September 7, 2010.

⁹ See, e.g., Certain Frozen Fish Fillets From the Socialist Republic of Vietnam: Final Results of Antidumping Duty Administrative Review and Partial Rescission, 73 FR 15479, 15480 (March 24, 2008).

Changes Since the Preliminary Results

Based on a review of the record, verification, as well as comments received from parties regarding our Preliminary Results, we have made certain changes to the margin calculations. Specifically, we have updated the calculation for labor and several surrogate values used in the Preliminary Results.¹⁰ We also revised our labor wage rate methodology. See the “Wage Rate Methodology” section below. For all changes to the calculations, see the I&D Memo and company-specific analysis memoranda. For changes to the surrogate values, see “Memorandum to the File, through Alex Villanueva, Program Manager, AC/CVD Operations, Office 9, from Emeka Chukwudebe, case analyst, AD/CVD Operations, Office 9, First Antidumping Duty Administrative Review of Certain Steel Nails from the People's Republic of China: Surrogate Values for the Final Results,” dated concurrently with this notice.

¹⁰ See I&D Memo at Comment 2 and the company-specific analysis memoranda.

Scope of the Order

The merchandise covered by the order includes certain steel nails having a shaft length up to 12 inches. Certain steel nails include, but are not limited to, nails made of round wire and nails that are cut. Certain steel nails may be of one piece construction or constructed of two or more pieces. Certain steel nails may be produced from any type of steel, and have a variety of finishes, heads, shanks, point types, shaft lengths and shaft diameters. Finishes include, but are not limited to, coating in vinyl, zinc (galvanized, whether by electroplating or hot-dipping one or more times), phosphate cement, and paint. Head styles include, but are not limited to, flat, projection, cupped, oval, brad, headless, double, countersunk, and sinker. Shank styles include, but are not limited to, smooth, barbed, screw threaded, ring shank and fluted shank styles. Screw-threaded nails subject to this proceeding are driven using direct force and not by turning the fastener using a tool that engages with the head. Point styles include, but are not limited to, diamond, blunt, needle, chisel and no point. Finished nails may be sold in bulk, or they may be collated into strips or coils using materials such as plastic, paper, or wire. Certain steel nails subject to this proceeding are currently classified under the Harmonized Tariff Schedule of the United States (“HTSUS”) subheadings 7317.00.55, 7317.00.65 and 7317.00.75.

Excluded from the scope of this proceeding are roofing nails of all lengths and diameter, whether collated or in bulk, and whether or not galvanized. Steel roofing nails are specifically enumerated and identified in ASTM Standard F 1667 (2005 revision) as Type I, Style 20 nails. Also excluded from the scope of this proceeding are corrugated nails. A corrugated nail is made of a small strip of corrugated steel with sharp points on one side. Also excluded from the scope of this proceeding are fasteners suitable for use in powder-actuated hand tools, not threaded and threaded, which are currently classified under HTSUS 7317.00.20 and 7317.00.30. Also excluded from the scope of this proceeding are thumb tacks, which are currently classified under HTSUS 7317.00.10.00. Also excluded from the scope of this proceeding are certain brads and finish nails that are equal to or less than 0.0720 inches in shank diameter, round or rectangular in cross section, between 0.375 inches and 2.5 inches in length, and that are collated with adhesive or polyester film tape backed with a heat seal adhesive. Also excluded from the scope of this proceeding are fasteners having a case hardness greater than or equal to 50 HRC, a carbon content greater than or equal to 0.5 percent, a round head, a secondary reduced-diameter raised head section, a centered shank, and a smooth symmetrical point, suitable for use in gas-actuated hand tools.

While the HTSUS subheadings are provided for convenience and customs purposes, the written description of the scope of this proceeding is dispositive.

Non-Market Economy Treatment

The Department considers the PRC to be a non-market economy (“NME”) country.¹¹ In accordance with section 771(18)(C)(i) of the Tariff Act of 1930, as amended (“Act”), any determination that a foreign country is an NME country shall remain in effect until revoked by the administering authority. No party has challenged the designation of the PRC as an NME country in this review. Therefore, the Department continues to treat the PRC as an NME country for purposes of these final results.

¹¹ See, e.g., Preliminary Determination of Sales at Less Than Fair Value and Postponement of Final Determination: Coated Free Sheet Paper From the People's Republic of China, 72 FR 30758, 30760 (June 4, 2007), unchanged in Final Determination of Sales at Less Than Fair Value: Coated Free Sheet Paper From the People's Republic of China, 72 FR 60632 (October 25, 2007).

Surrogate Country

In the Preliminary Results, the Department stated that it selected India as the appropriate surrogate country to use in this administrative review for the following reasons: (1) It is a significant producer of comparable merchandise; (2) it is at a similar level of economic development pursuant to section 773(c)(4) of the Act; and (3) the Department has reliable data from India that it can use to value the factors of production. As no party submitted additional comments challenging our selection of the primary surrogate country, we are continuing to use India as the surrogate country for the final results of this administrative review.

Wage Rate Methodology

Pursuant to Dorbest, we have calculated a revised hourly wage rate to use in valuing Stanley's reported labor. The revised wage rate is calculated by averaging earnings and/or wages in countries that are economically comparable to the PRC and that are significant producers of comparable merchandise, pursuant to section 773 of the Act. See I&D Memo at Comment 2.

Separate Rates

In proceedings involving NME countries, the Department holds a rebuttable presumption that all companies within the country are subject to government control and, thus, should be assessed a single antidumping duty rate. It is the Department's policy to assign all exporters of subject merchandise in an NME country this single rate unless an exporter can demonstrate that it is sufficiently independent so as to be entitled to a separate rate.¹²

¹² See Notice of Final Determination of Sales at Less Than Fair Value: Sparklers From the People's Republic of China, 56 FR 20588 (May 6, 1991), as further developed in Notice of Final Determination of Sales at Less Than Fair Value: Silicon Carbide From the People's Republic of China, 59 FR 22585 (May 2, 1994).

In the Preliminary Results, we determined that in addition to the mandatory respondents, Stanley and Shandong Minmetal, the Separate-Rate Applicants also met the criteria for separate rate status.¹³ Since the publication of the Preliminary Results, Shandong Minmetal withdrew from the review. Therefore, the Department has, as adverse facts available (“AFA”), treated Shandong Minmetal as part of the PRC-wide entity.¹⁴ Moreover, we note that the information that Shangdong Minmetal provided to the Department to demonstrate the absence of de facto and de jure control could not be verified due to its failure to cooperate. Consequently we have not granted Shandong Minmetal a separate rate.¹⁵

¹³ Those companies are: (1) Aironware (Shanghai) Co., Ltd.; (2) Chiieh Yung Metal Ind. Corp.; (3) China Staple Enterprise (Tianjin) Co., Ltd.; (4) Dezhou Hualude Hardware Products Co., Ltd.; (5) Faithful Engineering Products Co., Ltd.; (6) Hengshui Mingyao Hardware & Mesh Products Co., Ltd.; (7) Huanghua Jinhai Hardware Products Co., Ltd.; (8) Huanghua Xionghua Hardware Products Co., Ltd.; (9) Jisco Corporation (“Jisco”); (10) Koram Panagene Co., Ltd. (“Koram Panagene”); (11) Nanjing Yuechang Hardware Co., Ltd.; (12) Qidong Liang Chyuan Metal Industry Co., Ltd.; (13) Qingdao D & L Group Ltd.; (14) Romp (Tianjin) Hardware Co., Ltd.; (15) Shandong Dinglong Import & Export Co., Ltd.; (16) Shanghai Jade Shuttle Hardware Tools Co., Ltd.; (17) Shouguang Meiqing Nail Industry Co., Ltd.; (18) Tianjin Jinchi Metal Products Co., Ltd.; (19) Tianjin Jinghai County Hongli Industry & Business Co., Ltd.; (20) Tianjin Zhonglian Metals Ware Co., Ltd.; (21) Wintime Import & Export Corporation Limited of Zhongshan; and (22) Zhejiang Gem-Chun Hardware Accessory Co., Ltd. (collectively, “Separate-Rate Applicants”).

¹⁴ See section 735(c)(5)(A) of the Act.

¹⁵ See I&D Memo at Comment 13.

The separate rate is determined based on the estimated weighted-average antidumping margins established for exporters and producers individually investigated, excluding zero and de minimis margins or margins based entirely on AFA.¹⁶ In this administrative review, one mandatory respondent, Stanley, has an estimated weighted-average antidumping margin which is above de minimis and which is not based on total AFA. Therefore, because there is only one relevant weighted-average antidumping margin for these final results, we have assigned Stanley's margin, which is 13.90 percent, to the separate-rate companies.¹⁷

¹⁶ See id.

¹⁷ See, e.g., Steel Wire Garment Hangers From the People's Republic of China: Final Determination of Sales at Less Than Fair Value, 73 FR 47587, 47591 (August 14, 2008).

PRC-Wide Entity

In the Preliminary Results, the Department determined that certain PRC exporters subject to this review failed to recertify their separate rates using the separate rate certification provided at the Department's Web site at http://ia.ita.doc.gov/nme/nme-sep-rate.html to demonstrate their continued eligibility for separate-rate status. Thus, the Department treated these PRC exporters as part of the PRC-wide entity. The Department also found that the PRC-wide entity did not respond to our requests for information.¹⁸ As the PRC-wide entity did not provide the Department with requested information, pursuant to section 776(a)(2)(A) of the Act, we continue to treat such entities as part of the PRC-wide entity.

¹⁸ See I&D Memo at Comment 13.

Final Results of the Review

The weighted-average dumping margins for the POR are as follows:

Exporter | Weighted average margin (percent)
(1) Stanley | 13.90
(2) Aironware (Shanghai) Co., Ltd | 13.90
(3) Chiieh Yung Metal Ind. Corp | 13.90
(4) China Staple Enterprise (Tianjin) Co., Ltd | 13.90
(5) Dezhou Hualude Hardware Products Co., Ltd | 13.90
(6) Faithful Engineering Products Co., Ltd | 13.90
(7) Hengshui Mingyao Hardware & Mesh Products Co., Ltd | 13.90
(8) Huanghua Jinhai Hardware Products Co., Ltd | 13.90
(9) Huanghua Xionghua Hardware Products Co., Ltd | 13.90
(10) Jisco Corporation | 13.90
(11) Koram Panagene Co., Ltd | 13.90
(12) Nanjing Yuechang Hardware Co., Ltd | 13.90
(13) Qidong Liang Chyuan Metal Industry Co., Ltd | 13.90
(14) Qingdao D & L Group Ltd | 13.90
(15) Romp (Tianjin) Hardware Co., Ltd | 13.90
(16) Shandong Dinglong Import & Export Co., Ltd | 13.90
(17) Shanghai Jade Shuttle Hardware Tools Co., Ltd | 13.90
(18) Shouguang Meiqing Nail Industry Co., Ltd | 13.90
(19) Tianjin Jinchi Metal Products Co., Ltd | 13.90
(20) Tianjin Jinghai County Hongli Industry & Business Co., Ltd | 13.90
(21) Tianjin Zhonglian Metals Ware Co., Ltd | 13.90
(22) Wintime Import & Export Corporation Limited of Zhongshan | 13.90
(23) Zhejiang Gem-Chun Hardware Accessory Co., Ltd | 13.90
(24) PRC-wide Entity | 118.04

The following companies are not eligible for a separate rate and will be considered part of the PRC-wide entity:

Exporter
(1) Shandong Minmetal.
(2) Beijing Daruixing Global Trading Co., Ltd.
(3) Beijing Tri-Metal Co., Ltd.
(4) Beijing Yonghongsheng Metal Products Co., Ltd.
(5) Cana (Tiajin) Hardware Ind., Co., Ltd.
(6) China Silk Trading & Logistics Co., Ltd.
(7) Chongqing Hybest Nailery Co., Ltd.
(8) Dingzhou Ruili Nail Production Co. Ltd.
(9) Dong'e Fuqiang Metal Products Co., Ltd.
(10) Haixing Hongda Hardware Production Co., Ltd.
(11) Haixing Linhai Hardware Products Factory.
(12) Handuk Industrial Co., Ltd.
(13) Hilti (China) Limited.
(14) Huadu Jin Chuan Manufactory Co., Ltd.
(15) Huanghua Huarong Hardware Products Co., Ltd.
(16) Huanghua Jinhai Metal Products Co., Ltd.
(17) Huanghua Shenghua Hardware Manufactory Factory.
(18) Huanghua Xinda Nail Production Co., Ltd.
(19) Huanghua Yufutai Hardware Products Co., Ltd.
(20) Jinding Metal Products Ltd.
(21) Joto Enterprise Co., Ltd.
(22) Kyung Dong Corp.
(23) Maanshan Longer Nail Product Co., Ltd.
(24) Nanjing Dayu Pneumatic Gun Nails Co., Ltd.
(25) Qingdao Denarius Manufacture Co. Limited
(26) Qingdao International Fastening Systems Inc.
(27) Qingdao Sino-Sun International Trading Company Limited
(28) Qingyuan County Hongyi Hardware Products Factory.
(29) Qingyun Hongyi Hardware Factory.
(30) Rizhao Changxing Nail-Making Co., Ltd.
(31) Rizhao Handuk Fasteners Co., Ltd.
(32) Rizhao Qingdong Electric Appliance Co., Ltd.
(33) Shandong Minimetals Co., Ltd.
(34) Shandong Oriental Cherry Hardware Group, Ltd.
(35) Shanghai Curvet Hardware Products Co., Ltd.
(36) Shanghai Nanhui Jinjun Hardware Factory.
(37) Shanghai Tengyu Hardware Tools Co., Ltd.
(38) Sinochem Tianjin Imp & Exp Shenzhen Corp.
(39) Tianjin Baisheng Metal Products Co., Ltd.
(40) Tianjin Bosai Hardware Tools Co., Ltd.
(41) Tianjin City Dagang Area Jinding Metal Products Factory.
(42) Tianjin City Daman Port Area Jinding Metal Products .Factory
(43) Tianjin City Jinchi Metal Products Co., Ltd.
(44) Tianjin Dagang Dongfu Metallic Products Co., Ltd.
(45) Tianjin Dagang Hewang Nail Factory.
(46) Tianjin Dagang Hewang Nails Manufacture Plant.
(47) Tianjin Dagang Huasheng Nailery Co., Ltd.
(48) Tianjin Dagang Jingang Nail Factory.
(49) Tianjin Dagang Jingang Nails Manufacture Plant.
(50) Tianjin Dagang Linda Metallic Products Co., Ltd.
(51) Tianjin Dagang Longhua Metal Products Plant.
(52) Tianjin Dagang Shenda Metal Products Co., Ltd.
(53) Tianjin Dagang Yate Nail Co., Ltd.
(54) Tianjin Foreign Trade (Group) Textile & Garment Co., Ltd.
(55) Tianjin Hewang Nail Making Factory.
(56) Tianjin Huapeng Metal Company.
(57) Tianjin Huachang Metal Products Co., Ltd.
(58) Tianjin Huasheng Nails Production Co., Ltd.
(59) Tianjin Jieli Hengyuan Metallic Products Co., Ltd.
(60) Tianjin Jietong Hardware Products Co., Ltd.
(61) Tianjin Jietong Metal Products Co., Ltd.
(62) Tianjin Jin Gang Metal Products Co., Ltd.
(63) Tianjin Jishili Hardware Co., Ltd.
(64) Tianjin JLHY Metal Products Co., Ltd.
(65) Tianjin Kunxin Hardware Co., Ltd.
(66) Tianjin Kunxin Metal Products Co., Ltd.
(67) Tianjin Linda Metal Company
(68) Tianjin Qichuan Metal Products Co., Ltd.
(69) Tianjin Ruiji Metal Products Co., Ltd.
(70) Tianjin Shishun Metal Product Co., Ltd.
(71) Tianjin Shishun Metallic Products Co., Ltd.
(72) Tianjin Xiantong Fucheng Gun Nail Manufacture Co., Ltd.
(73) Tianjin Xinyuansheng Metal Products Co., Ltd.
(74) Tianjin Yihao Metallic Products Co., Ltd.
(75) Tianjin Yongchang Metal Product Co., Ltd.
(76) Tianjin Yongxu Metal Products Co., Ltd.
(77) Tianjin Yongyi Standard Parts Production Co., Ltd.
(78) Unicatch Industrial Co., Ltd.
(79) Wuqiao County Huifeng Hardware Products Factory.
(80) Wuqiao County Xinchuang Hardware Products Factory.
(81) Wuqiao Huifeng Hardware Production Co., Ltd.
(82) Wuxi Baolin Nail-Making Machinery Co., Ltd.
(83) Wuxi Qiangye Metalwork Production Co., Ltd.
(84) Zhangjiagang Longxiang Packing Materials Co., Ltd.
(85) Zhongshan Junlong Nail Manufactures Co., Ltd.

Assessment Rates

Upon issuance of the final results, the Department will determine, and U.S. Customs and Border Protection (“CBP”) shall assess, antidumping duties on all appropriate entries. The Department intends to issue assessment instructions to CBP 15 days after the date of publication of the final results of review, excluding any reported sales that entered during the gap period.¹⁹ Pursuant to 19 CFR 351.212(b)(1), we will calculate importer-specific (or customer-specific) ad valorem duty assessment rates based on the ratio of the total amount of the dumping margins calculated for the examined sales to the total entered value of those same sales. In accordance with 19 CFR 351.106(c)(2), we will instruct CBP to liquidate, without regard to antidumping duties, all entries of subject merchandise during the POR for which the importer-specific assessment rate is zero or de minimis. For the companies receiving a separate rate that were not selected for individual review, we will calculate an assessment rate based on the simple average of the cash deposit rates calculated for the companies selected for individual review pursuant to section 735(c)(5)(B) of the Act.

¹⁹ The gap period represents the period of time after the expiration of the 180-day provisional measures period during the original investigation, to the day prior to the U.S. International Trade Commission's final determination. In the instant case, the gap period is July 22, 2008, to July 24, 2008.

Cash Deposit Requirements

The following cash deposit requirements will be effective upon publication of these final results of administrative review for all shipments of the subject merchandise entered, or withdrawn from warehouse, for consumption on or after the publication date, as provided for by section 751(a)(2)(C) of the Act: (1) For the exporters listed above, the cash deposit rate will be established in the final results of this review (except, if the rate is zero or de minimis, i.e., less than 0.5 percent, no cash deposit will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 118.04 percent; and (4) for all non-PRC exporters of subject merchandise which have not received their own rate, the cash deposit rate will be the rate applicable to the PRC exporters that supplied that non-PRC exporter. These deposit requirements, when imposed, shall remain in effect until further notice.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this administrative review and notice in accordance with sections 751(a)(1) and 777(i) of the Act.

Dated: March 14, 2011.
Kim Glas,
Acting Deputy Assistant Secretary for Import Administration.

Appendix I—Issues & Decision Memorandum

General Issues

Comment 1: Cash Deposit and Liquidation Instructions

Comment 2: Labor Rate Methodology

Comment 3: Surrogate Financial Ratios

Comment 4: Steel Wire Rod Surrogate Value

Comment 5: Electricity Surrogate Value

Comment 6: Other Surrogate Values

A. Copper Coated Steel Welding Wire

B. Coatings

C. Glass Balls

D. Sodium Hydroxide

E. Sodium Sulfate

F. Plastic Cores

G. Labels

H. Shrink Film

I. Borax

J. Cardboard Trays

Comment 7: Zeroing

Company-Specific Issues

Separate Rate Respondents

Comment 8: Rate for Separate Rate Respondents

CPI

Comment 9: Entries Incorrectly Attributed to CPI

Tengyu and Curvet

Comment 10: Rate for Final Results

Rizhao and Wuxi Qiangye

Comment 11: Rate for Final Results

Chiieh Yung, Jisco, and Koram Panagene

Comment 12: Withdrawal of Review Request

Shandong Minmetal

Comment 13: Application of Total Adverse Facts Available (“AFA”)

Yitian Nanjing

Comment 14: PRC-wide Rate

Tianjin Shenyuan and Shaoxing Chengye

Comment 15: Correction of Company Names

Oriental Cherry Group

Comment 16: Rate for Final Results

Stanley

Comment 17: Application of Total or Partial AFA

Comment 18: Intermediate Input Methodology

Comment 19: Indirect Selling Expenses

[FR Doc. 2011-6728 Filed 3-22-11; 8:45 am]

BILLING CODE 3510-DS-P